LEGAL SERVICES CORPORATION

Sunshine Act Notice of Meeting Cancellation; Performance Reviews Committee of the Legal Services Corporation's Board of Directors

Time and Date: The July 19, 2007 meeting of the Performance Reviews Committee of the Legal Services Corporation's Board of Directors previously noticed in Volume 72, Number 134 of the Federal Register, at page 38626, has been cancelled.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: July 18, 2007.
Victor M. Fortuno,
Vice President for Legal Affairs, General Counsel & Corporate Secretary.

[FR Doc. 07-3564 Filed 7-18-07; 1:10 pm]

BILLING CODE 7050-01-P